DEPARTMENT OF HEALTH AND HUMAN SERVICES

National Institutes of Health

National Institute on Alcohol Abuse and Alcoholism; Amended Notice of Meeting

Notice is hereby given of a change in the meeting of the National Institute on Alcohol Abuse and Alcoholism Special Emphasis Panel, April 3, 2020, 8:00 a.m. to 5:00 p.m., National Institutes of Health, National Institute on Alcohol Abuse and Alcoholism, 6700B Rockledge Drive, Conference Rooms B & C, Bethesda, MD 20817, which was published in the Federal Register on January 20, 2020, 85 FR 5458.

This meeting notice is amended to change the meeting dates, times, and format. The meeting will now be held as a teleconference on two days—April 2, 2020, 8:00 a.m. to April 3, 2020, 5:00 p.m. The meeting is closed to the public.

Dated: March 13, 2020.
Melanie J. Pantoja,
Program Analyst, Office of Federal Advisory Committee Policy.

[FR Doc. 2020-05644 Filed 3-17-20; 8:45 am]

BILLING CODE 4140-01-P